DEPARTMENT OF COMMERCE

National Oceanic and Atmospheric Administration

50 CFR Part 697

[I.D. 112100A]

American Lobster Fishery Management

AGENCY: National Marine Fisheries Service (NMFS), National Oceanic and Atmospheric Administration (NOAA), Commerce.

ACTION: Notice of public meetings; request for comments.

SUMMARY: NMFS has prepared a draft supplemental environmental impact statement (DSEIS) which identifies several preferred management actions and alternatives for the American lobster fishery in Federal waters. These measures are based upon recommendations in Addendum 1 to Amendment 3 of the Interstate Fishery Management Plan for American Lobster (ISFMP) made by the Atlantic States Marine Fisheries Commission (Commission) for management of the American lobster resource in Federal waters. NMFS will hold public meetings to receive comments on the biological, economic, and social impacts addressed in the DSEIS.

DATES: Written comments on the preferred lobster management measures and alternatives discussed in the DSEIS must be received at the appropriate address or facsimile (fax) number (see ADDRESSES), no later than 5 p.m., eastern standard time, on Tuesday, January 9, 2001. Also, verbal comments may be presented at public meetings which are scheduled to be held from Tuesday, December 12 through Friday, December 15, 2000, in Maine, Rhode Island, New York and New Jersey. See SUPPLEMENTARY INFORMATION for times and locations of the meetings and special accommodations.

ADDRESSES:

Written comments and direct requests for copies of the lobster public meeting document and DSEIS should be sent to the State, Federal and Constituent Programs Office, National Marine Fisheries Service, Northeast Region, One Blackburn Drive, Gloucester, MA 01930-2298. Comments may also be sent via fax to (978) 281-9117. Comments submitted via email or Internet will not be accepted.

FOR FURTHER INFORMATION CONTACT: Peter Burns, NMFS, Northeast Region, telephone (978) 281-9144, fax (978) 281-9117.

SUPPLEMENTARY INFORMATION: NMFS is considering several new management measures for the American lobster fishery in Federal waters in response to the Commission’s recommendations in Addendum 1 to Amendment 3 of the ISFMP. Specifically, NMFS is considering a preferred alternative to control fishing effort in the lobster trap fishery in LCMAs 3, 4 and 5 by limiting access to only those Federal permit holders who can substantiate a history of trap fishing in these areas. The eligibility criteria for access to these management areas would be based upon industry advice developed by the ISFMP’s lobster conservation management teams. In LCMA 3, eligible permit holders would have to meet all of the following criteria:

1. Possession of a current Federal limited access lobster permit.

2. Provision of documentation to demonstrate a history of 2 consecutive calendar-months of active lobster trap fishing in LCMA 3 in any calendar year during the March 25, 1991 through September 1, 1999 qualification period (qualification period). A history of active trap fishing is defined as the fishing of at least 200 traps set in LCMA 3 for the duration of the 2-month qualifying period. Documentation may include copies of vessel logbooks, state or Federal Fishing Trip Reports, permit applications, or any other form of certification that denotes area fished and harvest information.

3. Provision of sales receipts or records showing the landing of at least 25,000 lb (11,370 km) of lobster from any area throughout the range of the resource during the year used as the qualifying year referenced in the preceding paragraph (Criterion number 2).

Under the preferred alternative Federal permit holders who qualify for participation in LCMA 3 based on the preceding criteria would be required to submit a signed affidavit to NMFS certifying the number of traps they have historically fished in LCMA 3. Qualifying permit holders would be restricted to the number of traps they have historically fished in that area, but limited to no more than 3,250 traps, and would be required to comply with annual trap reductions over a 5-year period.

In LCMA 4 and LCMA 5, the preferred alternative would require eligible permit holders to meet all of the following criteria to participate in the trap fishery in either of these areas:

1. Possession of a current Federal limited access lobster permit.

2. Provision of documentation to demonstrate a history of 2 consecutive calendar-months of active lobster trap fishing in LCMA 4 and/or LCMA 5 in any calendar year during the qualification period. A history of active trap fishing is defined as the fishing of at least 200 traps set for the duration of the 2-month qualifying period. Documentation may include copies of vessel logbooks, state or Federal Fishing Trip Reports, permit applications, or any other form of certification that denotes area fished and harvest information.

As with LCMA 3, permit holders who qualify for participation in LCMA 4 or LCMA 5 would be required to provide NMFS with a signed affidavit of the number of traps they have historically fished in the elected area(s) during the qualification period. Trap allocations for each qualifying permit holder would be based on the number of traps designated in the signed affidavit. Unlike the preferred alternative’s provisions for LCMA 3, there would be no maximum trap limit or annual trap reduction schedule for LCMA 4 or LCMA 5.

Alternatives to this action include: (1) maintaining the current management scenario requiring lobster trap fishers to designate specific LCMAs for trap fishing and abide by either the nearshore area trap limit of 800 if LCMA 4 or LCMA 5 is selected exclusively or in combination with any other LCMA, or the offshore area trap limit of 1,800 if LCMA 3 is selected exclusive of any other management area; (2) implementing limited access in LCMAs 3, 4 and 5 based on historical participation, but retaining the current trap limits; and (3) implementing the historical participation regime but establishing a 1,440 maximum trap limit for vessels qualifying for LCMA 4 or LCMA 5.

The DSEIS also analyzes the impacts of a measure allowing Federal lobster permit holders who also hold full commercial New Hampshire state lobster licenses to fish an additional 400 traps in New Hampshire State waters. The alternative to this option would maintain the status quo. Specifically, it would require dual Federal and New Hampshire commercial lobster licensees to abide by the more restrictive Federal trap limit of 800 traps in state and Federal waters. It would also require those dual licensees who elect to fish more than the Federal trap limit in New Hampshire State waters to forfeit their Federal lobster permit.

The third measure analyzed in the DSEIS would adjust the boundary lines for LCMA 1, LCMA 2, and the Outer Cape LCMA to maintain consistency with the ISFMP. The alternative to this preferred option would maintain the boundary lines for these LCMAs as they currently exist.

In publishing this document, NMFS announces four public meetings to discuss the preferred lobster management measures and alternatives. The dates, times, and locations of the meetings are scheduled as follows:

Meeting Dates and Times

1. Tuesday, December 12, 2000, 3 p.m.--Narragansett Town Hall Assembly Room, 25 Fifth Street, Narragansett, RI.

2. Wednesday, December 13, 2000, 3 p.m.--Holiday Inn by the Bay, 88 Spring Street, Portland, ME.

3. Thursday, December 14, 2000, 4:30 p.m.--Riverhead Town Board Room at Town Hall, 200 Howell Ave, Riverhead, NY.

4. Friday, December 15, 2000, 1 p.m.--Community Room at the Toms River Municipal Complex, 33 Washington Street, Toms River, NJ.

Electronic Access

The lobster public meeting document and DSEIS are also accessible via the Internet at www.nero.nmfs.gov/ro/doc/nr.htm.

Special Accommodations

These meetings are physically accessible to people with disabilities. Requests for sign language interpretation or other auxiliary aids should be directed to Peter Burns (see ADDRESSES) at least 5 days prior to the meeting date.

Authority: 16 U.S.C. 1851 et. seq.

Dated: November 21, 2000.
Bruce C. Morehead,
Acting Director, Office of Sustainable Fisheries, National Marine Fisheries Service.

[FR Doc. 00-30310 Filed 11-27-00; 8:45 am]

BILLING CODE 3510-22-S